DEPARTMENT OF COMMERCE

National Oceanic and Atmospheric Administration

50 CFR Part 660

[Docket No. 101221628-0628-01]

RIN 0648-BA40

Fisheries Off West Coast States; Pacific Coast Groundfish Fishery Management Plan; Amendments 20 and 21; Trawl Rationalization Program; Allocations for the Start of the 2011 Fishery

AGENCY: National Marine Fisheries Service (NMFS), National Oceanic and Atmospheric Administration (NOAA), Commerce.

ACTION: Temporary rule; emergency action; request for comments.

SUMMARY: NMFS issues this rule to implement an interim reduction to the 2010 harvest level for sablefish, issue revised quota pounds for individual fishing quota (IFQ) species, revise the calculation for the Pacific halibut trawl bycatch mortality limit for the trawl rationalization program; and adjust the trawl Rockfish Conservation Areas (RCAs) and landing allowances for non-IFQ species and Pacific whiting for the start of the 2011 groundfish fishery.

DATES: This rule is effective January 1, 2011. Comments must be received no later than 5 p.m. local time on January 31, 2011.

ADDRESSES: You may submit comments, identified by 0648-BA40, by any of the following methods:

• Electronic Submissions: Submit all electronic public comments via the Federal e-Rulemaking Portal, at http://www.regulations.gov.

• Fax: 206-526-6736, Attn: Kevin Duffy.

• Mail: William W. Stelle, Jr., Regional Administrator, Northwest Region, NMFS, 7600 Sand Point Way, NE., Seattle, WA 98115-0070, Attn: Kevin Duffy.

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments (if submitting comments via the Federal e-Rulemaking portal, enter “N/A” in the relevant required fields if you wish to remain anonymous). Attachments to electronic comments will be accepted in Microsoft Word or Excel, WordPerfect, or Adobe PDF file formats only.

Background information and documents, including the environmental assessment for this action, are available from William W. Stelle, Jr., Regional Administrator, Northwest Region, NMFS, 7600 Sand Point Way, NE., Seattle, WA 98115-0070; or by phone at 206-526-6150.

FOR FURTHER INFORMATION CONTACT: Kevin C. Duffy, 206-526-4743; (fax) 206-526-6736; Kevin.Duffy@noaa.gov.

SUPPLEMENTARY INFORMATION:

Background

In this emergency action, NMFS is implementing interim measures for the Pacific coast groundfish fisheries beginning in January, 2011. The interim measures include: interim reductions to the 2010 harvest level for sablefish; issuance of quota pounds (QP) for IFQ species; revisions to the calculation for the Pacific halibut trawl bycatch mortality limit; and adjustment of the trawl Rockfish Conservation Areas (RCAs) and landing allowances for non-IFQ species and Pacific whiting. These interim measures are necessary due to a delay in the finalization of the 2011-2012 harvest specifications and management measures, and are needed to meet the scheduled implementation of the trawl rationalization program in January 2011. These measures are intended to manage the early part of the 2011 groundfish fishery in a manner that prevents any conservation concerns until the 2011-2012 harvest specifications and management measures are implemented, currently anticipated in April 2011, and to accommodate the transition to a rationalized trawl fishery. For more background on the trawl rationalization program, see the preamble to the June 10, 2010, proposed rule (75 FR 32994), the August 31, 2010, proposed rule (75 FR 53380), the October 1, 2010, final rule (74 FR 60868), and the December 15, 2010, final rule (75 FR 78344).

The 2011-2012 harvest specifications and management measures final rule was scheduled to publish late in 2010 so that the trawl rationalization program and the 2011-2012 harvest specifications and management measures (2011-2012 specifications) would be implemented simultaneously. However, the 2011-2012 specifications, including several pieces necessary to sustainably manage the entire fishery and to begin the rationalized trawl fishery, have been delayed and will not be in place for the start of the 2011 groundfish fisheries. As a result of this delay, the harvest specifications and management measures that were implemented during 2010 will remain in place for the start of 2011, until NMFS takes action through a rulemaking to revise them. This may be problematic in some instances, as discussed below. Therefore, NMFS is taking action in this interim, emergency rulemaking to revise some harvest specifications and management measures.

Interim 2011 Harvest Specifications

Because the 2011-2012 harvest specifications and management measures rulemaking is delayed, if NMFS does not take any action, the harvest specifications and management measures that were implemented during 2010 will remain in place in 2011 until they are revised through a subsequent rulemaking. If the 2010 harvest specifications are allowed to remain in place and if catch early in 2011 is too high, both the biological resource and communities may be subject to overfishing and early fishery closure, respectively. This concern is highest for species that are caught by fisheries early in the year and where there may be limited ability to manage the fishery inseason to reduce catch later in the year. NMFS raised these issues to the Pacific Fishery Management Council at its November 2-9, 2010 meeting in Costa Mesa, California, and received recommendations from the Council regarding this interim rule to address these concerns.

The proposed rule for the 2011-2012 Biennial Harvest Specifications and Management Measures; Amendment 16-5; and Amendment 23 published on November 3, 2010 (75 FR 67810). As part of that rulemaking, in August 2010, the Council published a draft Environmental Impact Statement for Proposed Harvest Specifications and Management Measures for the 2011-2012 Pacific Coast Groundfish Fishery (DEIS), which included a range of 2011-2012 harvest levels. When the proposed 2011 harvest levels are compared with the levels that were in place for 2010, there are many species of groundfish for which the proposed 2011 harvest levels are lower than those that were in place for 2010. However, for many of those species, there is a low level of concern that starting the year with the same harvest specifications as those in place for 2010 would result in a conservation issues.

Therefore, in this action, NMFS is making no changes to the 2010 harvest levels for species other than sablefish north of 36° N. lat. (i.e., the 2010 harvest levels will remain in place at the start of the 2011 fishing year, except for sablefish north of 36° N. lat.). For sablefish, NMFS proposed harvest levels for 2011 based on the best available scientific information and management policy, as described in detail in the November 3, 2010 proposed rule for the 2011-2012 harvest specifications and management measures (75 FR 67810). In this action, NMFS is reducing the sablefish harvest level for the area north of 36° N. lat. consistent with the proposed harvest specifications for 2011, from 6,471 mt to 5,515 mt for the start of 2011. This interim measure is necessary to prevent conservation concerns with issuance of trawl fishery QP. Also, this interim reduction to the harvest level will allow NMFS to calculate the fixed gear primary sablefish fishery tier limits for 2011 at a level that will reduce concerns for overfishing, and will allow NMFS to take routine inseason actions to control catch of sablefish in the limited entry fixed gear and open access daily trip limit fisheries in early 2011, if necessary.

Issuance of QPs for the Shorebased IFQ Fishery

As a result of the delay in implementing 2011-2012 harvest specifications and management measures rulemaking, NMFS must determine what value to base the issuance of QP to quota share (QS) accounts. The shorebased trawl allocation for IFQ species is used to calculate how many QP to issue to QS accounts at the start of the fishing year (QS percent for a species multiplied by the shorebased trawl allocation equals QP for that species). NMFS calculated what the shorebased trawl allocation would be under the 2010 OYs and what it would be under Council-recommended amounts for 2011. To avoid the risk of over-issuing QP, which would then require reductions in April when the 2011 harvest specifications become finalized, NMFS is adopting the lower of these calculated amounts in this rule. These shorebased trawl allocations announced in this interim rule may be revised once the 2011 harvest specifications are finalized, and QP will be adjusted as appropriate.

NMFS determined the shorebased trawl allocations for IFQ species based on either the 2010 OY or proposed 2011 annual catch limits (ACLs) by taking the following steps. As specified at § 660.55(b), the OY (or ACL) was reduced by a specific amount for: the Pacific Coast treaty Indian Tribal harvest; projected scientific research catch of all groundfish species; estimates of fishing mortality in non-groundfish fisheries; and, as necessary, set-asides for EFPs. In order to retain the greatest flexibility when the final 2011 harvest specifications become available, NMFS used the larger of these amounts from 2010 and 2011, which resulted in a greater deduction from the OY (or ACL), and thus a more conservative amount for the calculation of the allocations. The remaining amount of available harvest after these deductions are made is called the fishery harvest guideline, which is then further divided into allocations for groundfish trawl (shorebased and at-sea) and non-trawl (limited entry fixed gear, open access, and recreational) fisheries. For most species, this was done according to the allocation percentages specified at § 660.55(c); however, IFQ species not listed in the table at § 660.55(c) are allocated between the trawl and nontrawl fisheries through the biennial harvest specifications process. Due to the delay of final 2011 harvest specifications and management measures, NMFS calculated the trawl allocation for species not listed in the table at § 660.55(c) by using either the proposed trawl allocation (in metric tons) from the proposed 2011 harvest specifications and management measures (75 FR 67810, November 3, 2010) or a proportional amount of the 2010 OY. The trawl allocation is further subdivided among the trawl sectors (mothership (MS), catcher/processor (C/P), and shorebased trawl (or IFQ)). The resulting shorebased trawl allocation (mt) is then used to calculate individual QPs. NMFS calculated the shorebased trawl allocation under both the 2010 OYs and under proposed 2011 ACLs, and is adopting the lower of the two for each IFQ species on an interim basis, so that quota pounds may be issued for the start of the 2011 fishery.

In some cases, NMFS is adopting a more conservative shorebased trawl allocation based upon current regulations, recommendations provided by the Council at its November 2010 meeting, or to provide NMFS flexibility in order to be consistent with the court order when the 2011 harvest specifications are finalized. In particular, this rule adopts a shorebased trawl allocation for Pacific whiting based on the lower end of the range of potential ACLs analyzed in the DEIS for the 2011 harvest specifications, consistent with current regulations at § 660.140(d)(1)(ii)(B)(2). This rule also adopts an interim shorebased trawl allocation for calculation of yelloweye rockfish QP based on the Council's November 2010 recommendation that the shorebased trawl allocation be set at 0.3 mt, as opposed to the 0.6 mt allocation that was recommended in June 2010 under a proposed 2011 yelloweye rockfish ACL of 20 mt. NMFS also applied the Council's November 2010 recommended increased set asides in the calculation of yellowtail rockfish QP. NMFS declined to apply the Council's November 2010 recommendation to temporarily suspend the petrale sole trawl/non-trawl split, because doing so would result in a larger issuance of petrale sole QP. This rule also adopts a shorebased trawl allocation for calculation of cowcod QP based on a more conservative harvest level of 3 mt, to provide flexibility in order to be consistent within the April 22, 2010 court order in NRDC v. Locke, Case 3:01-cv-00421-JLI, when the 2011 harvest specifications are finalized.

NMFS is adopting the lower shorebased trawl allocations in this rule in order to avoid the risk of over-issuing QP; these shorebased trawl allocations may change once the 2011 harvest specifications are finalized. NMFS will recalculate QP for IFQ species, other than Pacific halibut, once final 2011 harvest specifications are put in place, and will make adjustments in QS accounts as appropriate. If the final 2011 harvest specifications are greater than those used for the issuance of QP in this interim rule for the start of the fishing year, NMFS will issue additional QP later in 2011 for the difference.

Calculation of the Pacific Halibut Trawl Bycatch Mortality Limit

Under the trawl rationalization program, individual bycatch quota (IBQ) pounds for Pacific halibut north of 40°10′ N. lat. are issued based on a calculation where a QS permit owner's IBQ (expressed as a percent) is multiplied by the trawl mortality bycatch limit for halibut after any set-asides have been deducted. As specified in current regulations at § 660.55(m), the FMP sets a trawl mortality bycatch limit for legal and sublegal halibut at 15 percent of the Area 2A constant exploitation yield (CEY) for legal size halibut, not to exceed 130,000 pounds for the first four years of trawl rationalization and not to exceed 100,000 pounds starting in the fifth year. This total bycatch limit may be adjusted downward or upward through the biennial specifications and management measures process. Part of the overall total catch limit is a set-aside of 10 mt of Pacific halibut to accommodate bycatch in the at-sea Pacific whiting fishery and in the shoreside trawl fishery south of 40°10′ N. lat. (estimated to be approximately 5 mt each). The intent of the Council for this approach was to reduce halibut mortality that has been observed in recent years in the trawl fishery by approximately 50 percent.

At the November 2010 Council meeting, the Council and NMFS received the most recent total mortality information from the Northwest Fishery Science Center (NWFSC), in a report titled “Pacific Halibut Bycatch in the U.S. West Coast Groundfish Fishery from 2002 through 2009”, published in October 2010. This report indicated that the proportion of sublegal sized halibut (under 32 inches) to legal sized halibut (length 32 inches and over) was higher than the Council had realized when the IBQ pound provisions were adopted. The method of calculating halibut IBQ pounds specified in current regulations at § 660.55(m), which was developed prior to the October 2010 NWFSC report, would result in issuance of fewer individual bycatch quota pounds than the target set by the Council, and could create a chokehold species that would threaten successful implementation of the rationalization program.

The calculation of the trawl mortality bycatch limit, as specified at § 660.55(m) and in the FMP, would include both legal (length 32 inches and over) and sublegal (under 32 inches) halibut. At its November 2010 Council meeting, the Council discussed an alternate approach for calculation of the total trawl mortality bycatch limit, which includes legal-sized halibut only and is greater than 15 percent of the 2010 total CEY of Pacific halibut. This approach more closely reflects the Council's intent of a 50-percent reduction in halibut mortality.

Consistent with the Council's recommendation at its November 2010 meeting, NMFS is revising §§ 660.55(m) and 660.140(d)(1)(ii)(C) in this rule to modify the calculation of the trawl mortality bycatch limit so that it is based on “130,000 pounds of legal sized halibut, net weight.” Because halibut IBQ pounds are expressed in round weight, this limit, expressed in net weight, is converted to round weight by dividing by 0.75 (a conversion factor used by the International Pacific Halibut Commission (IPHC)), resulting in 173,333 pounds. In addition, because halibut IBQ pounds cover both legal and sublegal sized halibut, the calculation is further divided by 0.62 to determine the total number of both legal and sublegal sized halibut, in round pounds. The conversion factor of 0.62 to convert legal sized halibut into both legal and sublegal sized halibut is based on the Council's November 2010 recommendation, which was derived from the October 2011 NWFSC report. The resulting 2011 trawl bycatch mortality limit is 279,570 pounds. In order to calculate IBQ pounds, this amount is reduced by the 10 mt (22,046 pounds) set aside to accommodate bycatch in the at-sea Pacific whiting fishery and in the shoreside trawl fishery south of 40°10′ N. lat. NMFS will issue Pacific halibut IBQ pounds to QS permit owners based on their halibut IBQ percent multiplied by 257,524 pounds.

Trawl Rockfish Conservation Areas (RCAs) and Landing Allowances for Non-IFQ Species

Because the 2011-2012 harvest specifications and management measures rulemaking is delayed, if NMFS does not take any action, the harvest specifications and management measures that were in place and implemented during 2010 will remain in place in 2011 until they are revised through rulemaking. Also, the trawl rationalization program is scheduled to begin in January 2011. Because of this circumstance, management measures for the 2010 limited entry trawl fishery, which would have been amended for the 2011-2012 biennium, will remain in place. However, some of these measures are not appropriate for managing a rationalized fishery. In particular, trip limits would remain in place for the limited entry trawl fishery, including trip limits for IFQ species. Also, the trawl RCA boundaries that were in place in 2010 would be repeated for 2011, and those also may not be appropriate for a fishery that is operating under the trawl rationalization program. NMFS requested guidance from the Council on what the appropriate trip limits for non-IFQ species might be and what the appropriate RCA boundaries might be for the rationalized trawl fishery at its November 2010 meeting.

In June 2010, the Council recommended landing allowances for non-IFQ species and Pacific whiting (outside the primary whiting season) for implementation in the 2011-2012 harvest specifications and management measures, with the intent that they would be implemented with similar timing of the trawl rationalization program, in January 2011. However, with the delay in implementation of the 2011 harvest specifications and management measures, the Council, at its November 2010 meeting, re-considered appropriate landing allowances for non-IFQ species and whiting and RCA boundaries to be implemented via interim emergency rule for the start of the 2011 fishery.

The Council's Groundfish Management Team considered whether the landing allowances for non-IFQ species and whiting that were adopted by the Council in June 2010 would still be appropriate for the start of 2011, given the most recent fishery information and a NWFSC report on total groundfish mortality from 2009 fisheries that was released in November 2010. Considering the most recent fishery information, the landing allowances that were recommended by the Council in June 2010 were deemed appropriate by the Council and were recommended for implementation for the interim period until the 2011-2012 harvest specification and management measures are finalized later in 2011. The Council did, however, consider changes to the longnose skate landing allowances for the beginning of 2011, but did not recommend changes, based on the reasons described below.

The 2009 total mortality report indicated that the total mortality of longnose skate exceeded the 2009 OY of 1,349 mt by 106 mt, or 8 percent. 2009 was the first year that longnose skate was managed with a species-specific harvest specification and was therefore required to be sorted by species for catch accounting against the OY. Until 2009, the best available catch information indicated that catch of longnose skate was only about 800 mt per year. The trip limit that the Council recommended in June 2010 for longnose skate, a non-IFQ species, for 2011 was “Not limited,” based on the information on catch and discards that was available at the time, which indicated that a trip limit was unnecessary with a proposed harvest level of 1,349 mt. In 2009, only about 800 mt of longnose skate were landed, so much of the additional mortality was from discarding, bringing the total mortality above the 2009 OY. Trip limits, or landing allowances have a limited ability to control total mortality; they directly affect the amount of fish that may be landed, and may have indirect effects on whether vessels will target a species if the trip limit is low. However, with much of the mortality of longnose skate coming from discards at sea, trip limits may be less effective at keeping total mortality of longnose skate below the OY. Additional analysis of available observer data may provide additional information on the management measures that may be necessary to keep total mortality of longnose skate within the harvest specifications; however there was not sufficient time between receiving the 2009 total mortality report in November 2010 to develop and implement those measures in this interim emergency rulemaking. The total mortality of longnose skate in 2009 was well below the ABC (only 48 percent of the ABC), therefore the risk of overfishing in 2011 if no action were taken is very low. Therefore, the Council recommended keeping an interim landing allowance for longnose skate at “Not limited” for the start of 2011 and continuing analysis of potential management measures for longnose skate that can be implemented inseason during 2011 to keep the total mortality within the 2011 harvest specifications.

The Council also considered adjustments to the boundaries of the trawl RCA for the start of 2011. In June 2010, the Council recommended that the trawl RCA boundaries that were scheduled for the 2010 calendar year, as of June 2010, be in place for 2011 as well. The Council considered extending the seaward boundary of the trawl RCA seaward to close some deeper areas where darkblotched rockfish are encountered, given concerns with higher than anticipated darkblotched rockfish mortality in 2010. However, given the personal accountability features offered by a rationalized fishery, the Council did not recommend additional restrictions for the trawl RCA implemented by this rule.

No changes to management measures are being made for non-trawl commercial fisheries or recreational fisheries; however, the titles for the trip limit tables that are not otherwise revised by this interim rule are re-titled to reflect their ongoing effectiveness.

Therefore, the Council recommended and NMFS is implementing changes to the trip limits and RCA boundaries in Table 1 (North) and Table 1 (South) to subpart D. These changes will establish landing allowances for non-IFQ species and Pacific whiting outside the primary season and will adjust the trawl RCA boundaries. NMFS is also implementing changes to §§ 660.60 and 660.130 to remove obsolete language about trip limits in the trawl fishery, which are being removed for IFQ species in this interim rule. NMFS acknowledges that some obsolete language regarding trip limits, crossover provisions, and varying trip limits based on the gear type that is used will remain in regulations. NMFS intends to issue a follow-up rulemaking that will remove or revise outdated language that is outside of the scope of this interim rule. Also, NMFS is implementing revisions to the titles of Tables 2 (North) and 2 (South) to Part 660, subpart E and to Tables 3 (North) and 3 (South) to Part 660, subpart F, to reflect the ongoing effectiveness of the trip limits contained therein.

Classification

These interim measures are issued under the authority of, and are consistent with section 305(c)(1) of, the Magnuson-Stevens Fishery Conservation and Management Act and regulations at 50 CFR part 660, subparts C through G (the groundfish regulations implementing the FMP).

The Assistant Administrator Fisheries, NOAA (AA) finds good cause under 5 U.S.C. 553(b)(B) to waive the requirement for prior notice and opportunity for public comment, as such procedures are impracticable and contrary to the public interest.

In June 2010, the Council recommended, and NMFS is working to implement, specifications and management measures for the 2011-2012 biennium. Given the complexity of the biennial specifications and management measures, the need for adequate NEPA-related documents and public review periods, and competing workloads, NMFS did not have enough time to implement a final rule by January 1, 2011. In light of the delay in availability of the 2011-2012 harvest specifications and management measures rulemaking, the interim measures set out in this rule are necessary to implement the trawl rationalization program in January 2011 without causing risk of overfishing or the need for potentially severe restrictions to fishery management measures later in the year to prevent the final harvest specifications or allocations for 2011 from being exceeded.

It is in the public interest to reduce the harvest level for sablefish for the beginning of 2011. Failure to implement an interim harvest level reduction by January 1, 2011 would prevent NMFS from having the ability to take routine inseason action, if necessary, to keep projected mortality below the sablefish harvest level during the interim period (between January 1, 2011 and when the final 2011 harvest specifications are implemented) and would risk premature closure of fisheries that are important to coastal communities, which would fail to meet the objectives of the Pacific Coast Groundfish FMP to allow for year round fishing opportunities to provide community stability. This is contradictory to one of the goals of the FMP to keep year round fishing opportunities for target stocks.

It is also in the public interest to issue QP for IFQ species as described in this interim emergency rule by January 1, 2011. For some species for which the final 2011 harvest level may be lower than in 2010, without this rule, the rationalized trawl fishery would receive total QP that could: (1) Preclude fishing for such species in other non-trawl sectors (e.g., sablefish); or (2) exceed the final 2011 harvest specifications when they are implemented later in the year (e.g., petrale sole). Failure to implement interim QP for IFQ species would keep harvest levels for the trawl fishery in place that are not based on the best available data and would risk premature closure of fisheries that are important to coastal communities, which would fail to meet the objectives of the Pacific Coast Groundfish FMP to allow for year round fishing opportunities to provide community stability.

It is also in the public interest to revise the calculation method for Pacific halibut IBQ pounds. New information was received by the Council at its November 2010 meeting indicating that the proportion of sublegal sized halibut to legal sized halibut in bycatch of the limited entry trawl fishery was higher than the Council had realized when the IBQ pound provisions were adopted. There was not sufficient time after that meeting to draft this document and undergo proposed and final rulemaking before these actions need to be in effect. It would be contrary to the public interest to wait to implement these changes until after public notice and comment, because making this regulatory change quickly allows additional harvest in fisheries that are important to coastal communities. Failure to implement an interim calculation method for Pacific halibut IBQ would keep regulations in place that are not based on the best available data and could lead to early closures of the fishery because such regulations would result in issuance of fewer IBQ pounds than the target set by the Council. Premature closure of fisheries that are important to coastal communities would fail to meet the objectives of the Pacific Coast Groundfish FMP to allow for year round fishing opportunities to provide community stability.

It is also in the public interest to adjust RCAs and landing allowances for non-IFQ species. RCAs are important to facilitate rebuilding of overfished species. Failure to adjust interim trawl RCAs would keep regulations in place that are not based on the best available data, as they were not specifically developed for use in a rationalized trawl fishery. This would be contrary to the public interest and with the Pacific Coast Groundfish FMP to rebuild overfished species while allowing for harvest opportunities to support local communities. Failure to remove trip limits for IFQ species would cause duplicative regulations, where vessels would be fishing for their QP for IFQ species and would then also be restricted by trip limits. This would be very confusing to the regulated public. Removal of trip limits for IFQ species relieves an unnecessary restriction and allows flexibility for vessels fishing IFQ species.

For the same reasons, NMFS finds good cause to waive the 30-day delay in effectiveness pursuant to 5 U.S.C. 553(d)(3), so that this final rule may become effective on January 1, 2011.

Because notice and opportunity for comment are not required pursuant to 5 U.S.C. 553 or any other law, the analytical requirements of the Regulatory Flexibility Act (5 U.S.C. 601 et seq.) are inapplicable. Therefore, a regulatory flexibility analysis is not required and has not been prepared.

This interim rule has been determined to be not significant for purposes of Executive Order 12866.

A Regulatory Impact Review was completed and is available upon request from the NMFS, Northwest Region (see ADDRESSES).

NMFS issued Biological Opinions under the Endangered Species Act (ESA) on August 10, 1990, November 26, 1991, August 28, 1992, September 27, 1993, May 14, 1996, and December 15, 1999 pertaining to the effects of the Pacific Coast groundfish FMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementation of the FMP for the Pacific Coast groundfish fishery was not expected to jeopardize the continued existence of any endangered or threatened species under the jurisdiction of NMFS, or result in the destruction or adverse modification of critical habitat.

NMFS reinitiated a formal section 7 consultation under the ESA in 2005 for both the Pacific whiting midwater trawl fishery and the groundfish bottom trawl fishery. The December 19, 1999, Biological Opinion had defined an 11,000 Chinook incidental take threshold for the Pacific whiting fishery. During the 2005 Pacific whiting season, the 11,000 fish Chinook incidental take threshold was exceeded, triggering reinitiation. Also in 2005, new data from the West Coast Groundfish Observer Program became available, allowing NMFS to complete an analysis of salmon take in the bottom trawl fishery.

NMFS prepared a Supplemental Biological Opinion dated March 11, 2006, which addressed salmon take in both the Pacific whiting midwater trawl and groundfish bottom trawl fisheries. In its 2006 Supplemental Biological Opinion, NMFS concluded that catch rates of salmon in the 2005 whiting fishery were consistent with expectations considered during prior consultations. Chinook bycatch has averaged about 7,300 fish over the last 15 years and has only occasionally exceeded the reinitiation trigger of 11,000 fish.

Since 1999, annual Chinook bycatch has averaged about 8,450 fish. The Chinook ESUs most likely affected by the whiting fishery has generally improved in status since the 1999 section 7 consultation. Although these species remain at risk, as indicated by their ESA listing, NMFS concluded that the higher observed bycatch in 2005 does not require a reconsideration of its prior “no jeopardy” conclusion with respect to the fishery. For the groundfish bottom trawl fishery, NMFS concluded that incidental take in the groundfish fisheries is within the overall limits articulated in the Incidental Take Statement of the 1999 Biological Opinion. The groundfish bottom trawl limit from that opinion was 9,000 fish annually. NMFS will continue to monitor and collect data to analyze take levels. NMFS also reaffirmed its prior determination that implementation of the Groundfish FMP is not likely to jeopardize the continued existence of any of the affected ESUs.

Lower Columbia River coho (70 FR 37160, June 28, 2005) were recently listed and Oregon Coastal coho (73 FR 7816, February 11, 2008) were recently relisted as threatened under the ESA. The 1999 biological opinion concluded that the bycatch of salmonids in the Pacific whiting fishery were almost entirely Chinook salmon, with little or no bycatch of coho, chum, sockeye, and steelhead.

The Southern Distinct Population Segment (DPS) of green sturgeon was listed as threatened under the ESA (71 FR 17757, April 7, 2006). The southern DPS of Pacific eulachon was listed as threatened on March 18, 2010, under the ESA (75 FR 13012). NMFS has reinitiated consultation on the fishery, including impacts on green sturgeon, eulachon, marine mammals, and turtles. After reviewing the available information, NMFS has concluded that, consistent with Sections 7(a)(2) and 7(d) of the ESA, the proposed action would not jeopardize any listed species, would not adversely modify any designated critical habitat, and would not result in any irreversible or irretrievable commitment of resources that would have the effect of foreclosing the formulation or implementation of any reasonable and prudent alternative measures.

List of Subjects in 50 CFR Part 660

Fisheries, Fishing, and Indian fisheries.

Dated: December 22, 2010.
Samuel D. Rauch III,
Deputy Assistant Administrator for Regulatory Programs, National Marine Fisheries Service.

For the reasons set out in the preamble, 50 CFR Chapter VI is amended as follows:

50 CFR Chapter VI

PART 660—FISHERIES OFF WEST COAST STATES

1. The authority citation for part 660 continues to read as follows:

Authority: 16 U.S.C. 1801 et seq. and 16 U.S.C. 7001 et seq.

Subpart C—West Coast Groundfish Fisheries

2. In § 660.50, paragraph (f)(2)(ii) is revised to read as follows:

§ 660.50 Pacific Coast treaty Indian fisheries.

* * * * *

(f) * * *

(2) * * *

(ii) The Tribal allocation is set at 543 mt as an interim measure until the 2011 harvest specifications are finalized. This allocation is 10 percent of the Monterey through Vancouver area (North of 36° N. lat.) OY, less 1.6 percent estimated discard mortality.

* * * * *

3. In § 660.55, paragraph (m) is revised to read as follows:

§ 660.55 Allocations.

* * * * *

(m) Pacific halibut bycatch allocation. The Pacific halibut fishery off Washington, Oregon and California (Area 2A in the halibut regulations) is managed under regulations at 50 CFR part 300, subpart E. Beginning with the 2011-2012 biennial specifications process, the PCGFMP sets a trawl mortality bycatch limit for legal size halibut of 130,000 pounds, net weight, for the first four years of trawl rationalization and not to exceed 100,000 pounds starting in the fifth year. This total bycatch limit may be adjusted downward or upward through the biennial specifications and management measures process. Part of the overall total catch limit is a set-aside of 10 mt of Pacific halibut (legal and sublegal, round weight), to accommodate bycatch in the at-sea Pacific whiting fishery and in the shorebased trawl fishery south of 40°10′ N. lat. (estimated to be approximately 5 mt each).

4. In § 660.60, paragraphs (h)(7) introductory text and (h)(7)(i) are revised to read as follows:

§ 660.60 Specifications and management measures.

* * * * *

(h) * * *

(7) Crossover provisions. NMFS uses different types of management areas for West Coast groundfish management. One type of management area is the north-south management area, a large ocean area with northern and southern boundary lines wherein trip limits, seasons, and conservation areas follow a single theme. Within each north-south management area, there may be one or more conservation areas, defined at § 660.11 and §§ 660.60 through 660.74, subpart C. The provisions within this paragraph apply to vessels operating in different north-south management areas. Crossover provisions also apply to vessels that fish in both the limited entry and open access fisheries, or that use open access non-trawl gear while registered to limited entry fixed gear permits. Fishery specific crossover provisions can be found in subparts D through F of this part.

(i) Operating in north-south management areas with different trip limits. Trip limits for a species or a species group may differ in different north-south management areas along the coast. The following crossover provisions apply to vessels operating in different geographical areas that have different cumulative or “per trip” trip limits for the same species or species group. Such crossover provisions do not apply to: IFQ species defined at § 660.140(c), subpart D, for vessels that are declared into the shorebased IFQ sector (see 660.13 (d)(5)(iv)(A) for valid shorebased IFQ declaration reports), species that are subject only to daily trip limits, or to the trip limits for black rockfish off Washington, as described at § 660.230(d), subpart E and § 660.330(e), subpart F.

* * * * *

5a. Table 2a to part 660, subpart C is revised to read as follows:

* * * * *

BILLING CODE 3510-22-P

5b. Table 2c to part 660, subpart C and footnotes a through ll to Table 2c are revised to read as follows:

BILLING CODE 3510-22-C

a/ ABCs apply only to the U.S. portion of the Vancouver area.

b/ Optimum Yields (OYs) and Harvest Guidelines (HGs) are specified as total catch values. A harvest guideline is a specified harvest target and not a quota. The use of this term may differ from the use of similar terms in State regulation.

c/ Lingcod—A coastwide lingcod stock assessment was prepared in 2005. The lingcod biomass was estimated to be at 64 percent of its unfished biomass coastwide in 2005. The ABC of 4,829 mt was calculated using an FMSY proxy of F45%. Because the stock is above B40% coastwide, the coastwide OY was set equal to the ABC. The Tribal harvest guideline is 250 mt.

d/ “Other species”—These species are neither common nor important to the commercial and recreational fisheries in the areas footnoted. Accordingly, these species are included in the harvest guidelines of “other fish”, “other rockfish” or “remaining rockfish”.

e/ Pacific Cod—The 3,200 mt ABC for the Vancouver-Columbia area is based on historical landings data. The 1,600 mt OY is the ABC reduced by 50 percent as a precautionary adjustment. A Tribal harvest guideline of 400 mt is deducted from the OY resulting in a commercial OY of 1,200 mt.

f/ Pacific whiting—The most recent stock assessment was prepared in January 2010. The stock assessment base model estimated the Pacific whiting biomass to be at 31 percent (50th percentile estimate of depletion) of its unfished biomass in 2010. The U.S.-Canada coastwide ABC is 455,550 mt, the U.S. share of the ABC is 336,560 mt (73.88 percent of the coastwide ABC). The U.S.-Canada coastwide Pacific whiting OY is 262,500 mt, with a corresponding U.S. OY of 193,935 mt. The Tribal allocation is 49,939 mt. The amount estimated to be taken as research catch and in non-groundfish fisheries is 3,000 mt. The commercial OY is 140,996 mt. Each sector receives a portion of the commercial OY, with the catcher/processors getting 34 percent (47,939 mt), motherships getting 24 percent (33,839 mt), and the shore-based sector getting 42 percent (59,218 mt). No more than 2,961 mt (5 percent of the shore-based allocation) may be taken in the fishery south of 42° N. lat. prior to the start of the primary season for the shorebased fishery north of 42° N. lat.

g/ Sablefish—A coastwide sablefish stock assessment was prepared in 2007. The coastwide sablefish biomass was estimated to be at 38.3 percent of its unfished biomass in 2007. The 2010 coastwide ABC of 9,217 mt was based on the new stock assessment with a FMSY proxy of F45%. The 40-10 harvest policy was applied to the ABC, then apportioned between the northern and southern areas with 28 percent going to the area south of 36° N. lat. The OY for the area north of 36° N. lat. is set at 5,515 mt as an interim measure until the 2011 harvest specifications are finalized. When establishing the OY for the area south of 36° N. lat. a 50 percent reduction was made resulting in a Conception area OY of 1,258 mt. The Tribal allocation for the area north of 36° N. lat. is set at 552 mt (10 percent of the OY north of 36° N. lat.) as an interim measure until the 2011 harvest specifications are finalized, which is further reduced by 1.6 percent to account for discard mortality. The Tribal landed catch value is set at 543 mt as an interim measure until the 2011 harvest specifications are finalized.

h/ Cabezon south of 42° N. lat. was assessed in 2005. The Cabezon stock was estimated to be at 40 percent of its unfished biomass north of 34° 27′ N. lat. and 28 percent of its unfished biomass south of 34° 27′ N. lat. in 2005. The ABC of 111 mt is based on the 2005 stock assessment with a harvest rate proxy of F45%. The OY of 79 mt is consistent with the application of a 60-20 harvest rate policy specified in the California Nearshore Fishery Management Plan.

i/ Dover sole north of 34° 27′ N. lat. was assessed in 2005. The Dover sole biomass was estimated to be at 59.8 percent of its unfished biomass in 2005 and was projected to be increasing. The ABC of 28,582 mt is based on the results of the 2005 assessment with an FMSY proxy of F40%. Because the stock is above B40% coastwide, the OY could be set equal to the ABC. The OY of 16,500 mt is less than the ABC. The OY is set at the MSY harvest level which is considerably larger than the coastwide catches in any recent years.

j/ A coastwide English sole stock assessment was prepared in 2005 and updated in 2007. The stock was estimated to be at 116 percent of its unfished biomass in 2007. The stock biomass is believed to be declining. The ABC of 9,745 mt is based on the results of the 2007 assessment update with an FMSY proxy of F40%. Because the stock is above B40%, the OY was set equal to the ABC.

k/ A petrale sole stock assessment was prepared for 2005. In 2005 the petrale sole stock was estimated to be at 32 percent of its unfished biomass coastwide (34 percent in the northern assessment area and 29 percent in the southern assessment area). The 2010 ABC of 2,751 mt is based on the 2005 assessment with a F40% FMSY proxy. To derive the 2010 OY, the 40-10 harvest policy was applied to the ABC for both the northern and southern assessment areas. As a precautionary measure, an additional 25 percent reduction was made in the OY contribution for the southern area due to assessment uncertainty. As another precautionary measure, an additional 1,193 mt reduction was made in the coastwide OY due to preliminary results of the more pessimistic 2009 stock assessment. The coastwide OY is 1,200 mt in 2010.

l/ Arrowtooth flounder was assessed in 2007 and was estimated to be at 79 percent of its unfished biomass in 2007. Because the stock is above B40%, the OY is set equal to the ABC.

m/ Starry Flounder was assessed for the first time in 2005 and was estimated to be above 40 percent of its unfished biomass in 2005. However, the stock was projected to decline below 40 percent in both the northern and southern areas after 2008. For 2010, the coastwide ABC of 1,578 mt is based on the 2005 assessment with a FMSY proxy of F40%. To derive the OY of 1,077 mt, the 40-10 harvest policy was applied to the ABC for both the northern and southern assessment areas then an additional 25 percent reduction was made due to assessment uncertainty.

n/ “Other flatfish” are those flatfish species that do not have individual ABC/OYs and include butter sole, curlfin sole, flathead sole, Pacific sanddab, rex sole, rock sole, and sand sole. The other flatfish ABC is based on historical catch levels. The ABC of 6,731 mt is based on the highest landings for sanddabs (1995) and rex sole (1982) for the 1981-2003 period and on the average landings from the 1994-1998 period for the remaining other flatfish species. The OY of 4,884 mt is based on the ABC with a 25 percent precautionary adjustment for sanddabs and rex sole and a 50 percent precautionary adjustment for the remaining species.

o/ A POP stock assessment was prepared in 2005 and was updated in 2007. The stock assessment update estimated the stock to be at 27.5 percent of its unfished biomass in 2007. The ABC of 1,173 mt for the Vancouver and Columbia areas is based on the 2007 stock assessment update with an FMSY proxy of F50%. The OY of 200 mt is based on a rebuilding plan with a target year to rebuild of 2017 and an SPR harvest rate of 86.4 percent. The OY is reduced by 2.0 mt for the amount anticipated to be taken during research activity and 0.14 mt for the amount expected to be taken during EFP fishing.

p/ Shortbelly rockfish remains an unexploited stock and is difficult to assess quantitatively. To understand the potential environmental determinants of fluctuations in the recruitment and abundance of an unexploited rockfish population in the California Current ecosystem, a non-quantitative assessment was conducted in 2007. The results of the assessment indicated the shortbelly stock was healthy with an estimated spawning stock biomass at 67 percent of its unfished biomass in 2005. The ABC and OY are being set at 6,950 mt which is 50 percent of the 2008 ABC and OY values. The stock is expected to remain at its current equilibrium with these harvest specifications.

q/ Widow rockfish was assessed in 2005, and an update was prepared in 2007. The stock assessment update estimated the stock to be at 36.2 percent of its unfished biomass in 2006. The ABC of 6,937 mt is based on the stock assessment update with an F50% FMSY proxy. The OY of 509 mt is based on a rebuilding plan with a target year to rebuild of 2015 and an SPR harvest rate of 95 percent. To derive the commercial harvest guideline of 447.4 mt, the OY is reduced by 1.1 mt for the amount anticipated to be taken during research activity, 45.5 mt for the Tribal set-aside, 7.2 mt the amount estimated to be taken in the recreational fisheries, 0.4 mt for the amount expected to be taken incidentally in non-groundfish fisheries, and 7.4 mt for EFP fishing activities.

r/ Canary rockfish—A canary rockfish stock assessment was completed in 2007 and the stock was estimated to be at 32.7 percent of its unfished biomass coastwide in 2007. The coastwide ABC of 940 mt is based on a FMSY proxy of F50%. The OY of 105 mt is based on a rebuilding plan with a target year to rebuild of 2021 and a SPR harvest rate of 88.7 percent. To derive the commercial harvest guideline of 42.3 mt, the OY is reduced by 8.0 mt for the amount anticipated to be taken during research activity, 7.3 mt the Tribal set-aside, 43.8 mt the amount estimated to be taken in the recreational fisheries, 0.9 mt for the amount expected to be taken incidentally in non-groundfish fisheries, and 2.7 mt for the amount expected to be taken during EFP fishing. The following harvest guidelines are being specified for catch sharing in 2009: 19.7 mt for limited entry Non-Whiting Trawl, 18.0 mt for limited entry Whiting Trawl, 2.2 mt for limited entry fixed gear, 2.5 mt for directed open access, 4.9 mt for Washington recreational, 16.0 mt for Oregon recreational, and 22.9 mt for California recreational.

s/ Chilipepper rockfish was assessed in 2007 and the stock was estimated to be at 71 percent of its unfished biomass coastwide in 2007. The ABC of 2,576 mt is based on the new assessment with an FMSY proxy of F50%. Because the unfished biomass is estimated to be above 40 percent of the unfished biomass, the default OY could be set equal to the ABC. However, the OY of 2,447 mt was the ABC reduced by 5 percent as a precautionary measure. Open access is allocated 44.3 percent (1,084 mt) of the commercial HG and limited entry is allocated 55.7 percent (1,363 mt) of the commercial HG.

t/ A bocaccio stock assessment and a rebuilding analysis were prepared in 2007. The bocaccio stock was estimated to be at 13.8 percent of its unfished biomass in 2007. The ABC of 793 mt for the Monterey-Conception area is based on the new stock assessment with an FMSY proxy of F50%. The OY of 288 is based on a rebuilding plan with a target year to rebuild of 2026 and a SPR harvest rate of 77.7 percent. To derive the commercial harvest guideline of 206.4 mt, the OY is reduced by 2.0 mt for the amount anticipated to be taken during research activity, 67.3 mt for the amount estimated to be taken in the recreational fisheries, 1.3 mt for the amount expected to be taken incidentally in non-groundfish fisheries, and 11.0 mt for the amount expected to be taken during EFP fishing.

u/ Splitnose rockfish—The ABC is 615 mt in the Monterey-Conception area. The 461 mt OY for the area reflects a 25 percent precautionary adjustment because of the less rigorous stock assessment for this stock. In the north (Vancouver, Columbia and Eureka areas), splitnose is included within the minor slope rockfish OY. Because the harvest assumptions used to forecast future harvest were likely overestimates, carrying the previously used ABCs and OYs forward into 2010 was considered to be conservative and based on the best available data.

v/ Yellowtail rockfish—A yellowtail rockfish stock assessment was prepared in 2005 for the Vancouver, Columbia, Eureka areas. Yellowtail rockfish was estimated to be above 40 percent of its unfished biomass in 2005. The ABC of 4,562 mt is based on the 2005 stock assessment with the FMSY proxy of F50%. The OY of 4,562 mt was set equal to the ABC, because the stock is above the precautionary threshold of B40%.

w/ Shortspine thornyhead was assessed in 2005 and the stock was estimated to be at 63 percent of its unfished biomass in 2005. The ABC of 2,411 mt is based on a F50%FMSYproxy. For that portion of the stock (66 percent of the biomass) north of Point Conception (34° 27′ N. lat.), the OY of 1,591 mt was set at equal to the ABC because the stock is estimated to be above the precautionary threshold. For that portion of the stock south of 34° 27′ N. lat. (34 percent of the biomass), the OY of 410 mt was the portion of the ABC for the area reduced by 50 percent as a precautionary adjustment due to the short duration and amount of survey data for that area.

x/ Longspine thornyhead was assessed coastwide in 2005 and the stock was estimated to be at 71 percent of its unfished biomass in 2005. The coastwide ABC of 3,671 mt is based on a F50%FMSYproxy. The OY is set equal to the ABC because the stock is above the precautionary threshold. Separate OYs are being established for the areas north and south of 34° 27′ N. lat. (Point Conception). The OY of 2,175 mt for that portion of the stock in the northern area (79 percent) was the ABC reduced by 25 percent as a precautionary adjustment. For that portion of the stock in the southern area (21 percent), the OY of 385 mt was the portion of the ABC for the area reduced by 50 percent as a precautionary adjustment due to the short duration and amount of survey data for that area.

y/ Cowcod in the Conception area was assessed in 2007 and the stock was estimated to be between 3.4 to 16.3 percent of its unfished biomass. The ABC for the Monterey and Conception areas is 14 mt and is based on the 2007 rebuilding analysis in which the Conception area stock assessment projection was doubled to account for both areas. A single OY of 4 mt is being set for both areas. The OY of 4 mt is based on the need to conform the 2010 cowcod harvest specifications to the Court's Order in Natural Resources Defense Council v. Locke, Civil Action No. C 01-0421 JL. The amount anticipated to be taken during scientific research activity is 0.2 mt and the amount expected to be taken during EFP activity is 0.24 mt.

z/ Darkblotched rockfish was assessed in 2007 and a rebuilding analysis was prepared. The new stock assessment estimated the stock to be at 22.4 percent of its unfished biomass in 2007. The ABC is projected to be 440 mt and is based on the 2007 stock assessment with an FMSY proxy of F50%. The OY of 330 mt is based on the need to conform the 2010 darkblotched rockfish harvest specifications to the Court's Order in Natural Resources Defense Council v. Locke, Civil Action No. C 01-0421 JL. The amount anticipated to be taken during scientific research activity is 2.0 mt and the amount anticipated to be taken during EFP activity is 0.95 mt.

aa/ Yelloweye rockfish was fully assessed in 2006 and an assessment update was completed in 2007. The 2007 stock assessment update estimated the spawning stock biomass in 2006 to be at 14 percent of its unfished biomass coastwide. The 32 mt coastwide ABC was derived from the base model in the new stock assessment with an FMSY proxy of F50%. The 14 mt OY is based on the need to conform the 2010 yelloweye rockfish harvest specifications to the Court's Order in Natural Resources Defense Council v. Locke, Civil Action No. C 01-0421 JL. The amount anticipated to be taken during scientific research activity is 1.3 mt, the amount anticipated to be taken in the Tribal fisheries is 2.3 mt, and the amount anticipated to be taken incidentally in non-groundfish fisheries is 0.3 mt. The catch sharing harvest guidelines for yelloweye rockfish in 2010 are: Limited entry non-whiting trawl 0.3 mt, limited entry whiting 0.0 mt, limited entry fixed gear 0.8 mt, directed open access 1.2 mt, Washington recreational 2.6 mt, Oregon recreational 2.3 mt, California recreational 2.7 mt, and 0.2 mt for exempted fishing.

bb/ California Scorpionfish south of 34° 27′ N. lat. (point Conception) was assessed in 2005 and was estimated to be above 40 percent of its unfished biomass in 2005. The ABC of 155 mt is based on the new assessment with a harvest rate proxy of F50%. Because the stock is above B40%coastwide, the OY is set equal to the ABC.

cc/ New assessments were prepared for black rockfish south of 45° 56.00 N. lat. (Cape Falcon, Oregon) and for black rockfish north of Cape Falcon. The ABC for the area north of 46° 16′ N. lat. (Washington) is 464 mt (97 percent) of the 478 mt ABC contribution from the northern assessment area. The ABC for the area south of 46° 16′ N. lat. (Oregon and California) is 1,317 mt which is the sum of a contribution of 14 mt (3 percent) from the northern area assessment, and 1,303 mt from the southern area assessment. The ABCs were derived using an FMSY proxy of F50%. Because both portions of the stock are above 40 percent, the OYs could be set equal to the ABCs. For the area north of 46°16′ N. lat., the OY of 490 mt is set equal to the ABC. The following Tribal harvest guidelines are being set: 30,000 lb (13.6 mt) north of Cape Alava, WA (48° 09.50′ N. lat.) and 10,000 lb (4.5 mt) between Destruction Island, WA (47° 40′ N. lat.) and Leadbetter Point, WA (46° 38.17′ N. lat.) For the area south of 46° 16′ N. lat., the OY of 1,000 mt is a constant harvest level. The black rockfish OY in the area south of 46° 16′ N. lat., is subdivided with separate HGs being set for the area north of 42° N. lat. (580 mt/58 percent) and for the area south of 42° N. lat. (420 mt/42 percent).

dd/ Minor rockfish north includes the “remaining rockfish” and “other rockfish” categories in the Vancouver, Columbia, and Eureka areas combined. These species include “remaining rockfish”, which generally includes species that have been assessed by less rigorous methods than stock assessments, and “other rockfish”, which includes species that do not have quantifiable stock assessments. Blue rockfish has been removed from the “other rockfish” and added to the remaining rockfish. The ABC of 3,678 mt is the sum of the individual “remaining rockfish” ABCs plus the “other rockfish” ABCs. The remaining rockfish ABCs continue to be reduced by 25 percent (F = 0.75M) as a precautionary adjustment. To obtain the total catch OY of 2,283 mt, the remaining rockfish ABCs were further reduced by 25 percent and other rockfish ABCs were reduced by 50 percent. This was a precautionary measure to address limited stock assessment information.

ee/ Minor rockfish south includes the “remaining rockfish” and “other rockfish” categories in the Monterey and Conception areas combined. These species include “remaining rockfish” which generally includes species that have been assessed by less rigorous methods than stock assessment, and “other rockfish” which includes species that do not have quantifiable stock assessments. Blue rockfish has been removed from the “other rockfish” and added to the remaining rockfish. The ABC of 3,382 mt is the sum of the individual “remaining rockfish” ABCs plus the “other rockfish” ABCs. The remaining rockfish ABCs continue to be reduced by 25 percent (F = 0.75M) as a precautionary adjustment. The remaining rockfish ABCs are further reduced by 25 percent, with the exception of blackgill rockfish (see footnote gg). The other rockfish ABCs were reduced by 50 percent. This was a precautionary measure due to limited stock assessment information. The resulting minor rockfish OY is 1,990 mt.

ff/ Bank rockfish—The ABC is 350 mt which is based on a 2000 stock assessment for the Monterey and Conception areas. This stock contributes 263 mt towards the minor rockfish OY in the south.

gg/ Blackgill rockfish in the Monterey and Conception areas was assessed in 2005 and is estimated to be at 49.9 percent of its unfished biomass in 2008. The ABC of 292 mt for the Monterey and Conception areas is based on the 2005 stock assessment with an FMSY proxy of F50% and is the two year average ABC for the 2007 and 2008 periods. This stock contributes 292 mt towards minor rockfish south.

hh/ “Other rockfish” includes rockfish species listed in 50 CFR 660.302. A new stock assessment was conducted for blue rockfish in 2007. As a result of the new stock assessment, the blue rockfish contribution to the other rockfish group, of 30 mt in the north and 232 mt in the south, are removed. A new contribution of 28 mt contribution in the north and 202 mt contribution in the south is added to the remaining rockfish. The ABC for the remaining species is based on historical data from a 1996 review landings and includes an estimate of recreational landings. Most of these species have never been assessed quantitatively.

ii/ Longnose skate was fully assessed in 2006 and an assessment update was completed in 2007. The ABC of 3,428 is based on the 2007 with an FMSY proxy of F45%. Longnose skate was previously managed as part of the Other Fish complex. The 2009 OY of 1,349 mt is a precautionary OY based on historical total catch increased by 50 percent.

jj/ “Other fish” includes sharks, skates, rays, ratfish, morids, grenadiers, kelp greenling, and other groundfish species noted above in footnote d/. The longnose skate contribution is being removed from this complex.

kk/ Sablefish allocation north of 36° N. lat.—The limited entry allocation is further divided with 58 percent allocated to the trawl fishery and 42 percent allocated to the fixed-gear fishery.

ll/ Specific open access/limited entry allocations specified in the FMP have been suspended during the rebuilding period as necessary to meet the overall rebuilding target while allowing harvest of healthy stocks.

Subpart D—West Coast Groundfish—Limited Entry Trawl Fisheries

6. In § 660.130, paragraphs (c) introductory text and (c)(4)(ii)(B) are revised to read as follows:

§ 660.130 Trawl fishery—management measures.

* * * * *

(c) Prohibitions by limited entry trawl gear type. Management measures may vary depending on the type of trawl gear (i.e., large footrope, small footrope, selective flatfish, or midwater trawl gear) used and/or on board a vessel during a fishing trip, cumulative limit period, and the area fished. Trawl nets may be used on and off the seabed. For some species or species groups, Table 1 (North) and Table 1 (South) of this subpart provide trip limits that are specific to different types of trawl gear: large footrope, small footrope (including selective flatfish), selective flatfish, midwater, and multiple types. If Table 1 (North) and Table 1 (South) of this subpart provide gear specific limits for a particular species or species group, it is unlawful to take and retain, possess or land that species or species group with limited entry trawl gears other than those listed.

* * * * *

(4) * * *

(ii) * * *

(B) For vessels using more than one type of trawl gear during a cumulative limit period, limits are additive up to the largest limit for the type of gear used during that period.

* * * * *

7. Section 660.140, as amended at 75 FR 78391, December 15, 2010, is further amended by revising paragraph (d)(1)(ii)(C) and adding paragraph (d)(1)(ii)(D) to read as follows:

§ 660.140 Shorebased IFQ Program.

* * * * *

(d) * * *

(1) * * *

(ii) * * *

(C) Pacific halibut IBQ pounds annual allocation. NMFS will issue IBQ pounds for Pacific halibut annually by multiplying the QS permit owner's IBQ percent by the Shorebased IFQ Program component of the trawl mortality limit for that year (expressed in net weight), dividing by 0.75 to convert to round weight pounds, and dividing by 0.62 to convert from legal sized to legal and non-legal sized halibut. Consistent with § 660.55(m), the Shorebased IFQ Program component of the trawl mortality limit will be 130,000 pounds of legal size halibut, net weight in the first four years of the Shorebased IFQ Program and not to exceed 100,000 pounds starting in the fifth year of the Shorebased IFQ Program, less the set-aside amount of Pacific halibut to accommodate the incidental catch in the trawl fishery south of 40°10′ N. lat. and in the at-sea whiting fishery. Deposits to QS accounts for Pacific halibut IBQ pounds will be made on or about January 1 each year.

(D) For the start of the 2011 trawl fishery, NMFS will issue QP based on the following shorebased trawl allocations:

IFQ species | Management area | Shorebased trawl allocation (mt)
Lingcod |  | 1,863.30
Pacific cod |  | 1,135.00
Pacific Whiting |  | 18,467.00
Sablefish | North of 36° N. lat. | 2,546.34
Sablefish | South of 36° N. lat. | 514.08
Dover sole |  | 14,159.50
English sole |  | 9,157.75
PETRALE SOLE |  | 860.07
Arrowtooth flounder |  | 7,622.30
Starry flounder |  | 530.00
Other flatfish |  | 4,197.40
PACIFIC OCEAN PERCH | North of 40°10′ N. lat. | 119.36
WIDOW ROCKFISH |  | 282.55
CANARY ROCKFISH |  | 25.90
Chilipepper rockfish | South of 40°10′ N. lat. | 1,475.25
BOCACCIO ROCKFISH | South of 40°10′ N. lat. | 60.00
Splitnose rockfish | South of 40°10′ N. lat. | 431.30
Yellowtail rockfish | North of 40°10′ N. lat. | 3,094.16
Shortspine thornyhead | North of 34°27′ N. lat. | 1,431.60
Shortspine thornyhead | South of 34°27′ N. lat. | 50.00
Longspine thornyhead | North of 34°27′ N. lat. | 1,966.25
COWCOD | South of 40°10′ N. lat. | 1.35
DARKBLOTCHED ROCKFISH |  | 250.84
YELLOWEYE ROCKFISH |  | 0.30
Minor shelf rockfish complex | North of 40°10′ N. lat. | 522.00
Minor shelf rockfish complex | South of 40°10′ N. lat. | 86.00
Minor slope rockfish complex | North of 40°10′ N. lat. | 829.52
Minor slope rockfish complex | South of 40°10′ N. lat. | 377.37

8. Table 1 (North) and Table 1 (South) to part 660, subpart D are revised to read as follows:

BILLING CODE 3510-22-P

9. Table 2 (North) and Table 2 (South) to part 660, subpart E are revised to read as follows:

10. Table 3 (North) and Table 3 (South) to part 660, subpart F are revised to read as follows:

[FR Doc. 2010-32833 Filed 12-29-10; 8:45 am]

BILLING CODE 3510-22-C